ENVIRONMENTAL PROTECTION AGENCY

40 CFR Part 52

[EPA-R09-OAR-2014-0469; FRL-9912-67-Region 9]

Revisions to the Arizona State Implementation Plan; State Stationary Source Rules

AGENCY: Environmental Protection Agency (EPA).

ACTION: Direct final rule.

SUMMARY: The Environmental Protection Agency (EPA) is taking direct final action to approve revisions to the Arizona State Implementation Plan (SIP). These revisions include two State statutes and certain State rules that govern stationary sources under the jurisdiction of the Arizona Department of Environmental Quality and that establish definitions and other general provisions; ambient air quality standards and area designations; and emissions limitations and other requirements for certain types of stationary sources. Generally, approval of these revisions updates and replaces previously approved provisions in the Arizona SIP, but the EPA is also approving a few rules that are new to the Arizona SIP and a few rescissions that remove certain other rules from the Arizona SIP without replacement. The EPA is approving these revisions because they meet all applicable requirements of the Clean Air Act.

DATES: This rule is effective on November 24, 2014 without further notice, unless EPA receives adverse comments by October 23, 2014. If we receive such comments, we will publish a timely withdrawal in the Federal Register to notify the public that this direct final rule will not take effect.

ADDRESSES: Submit comments, identified by docket number EPA-R09-OAR-2014-0469, by one of the following methods:

1. Federal eRulemaking Portal: www.regulations.gov. Follow the on-line instructions.

2. Email: steckel.andrew@epa.gov.

3. Mail or Deliver: Andrew Steckel (Air-4), U.S. Environmental Protection Agency Region IX, 75 Hawthorne Street, San Francisco, CA 94105-3901.

Instructions: All comments will be included in the public docket without change and may be made available online at www.regulations.gov, including any personal information provided, unless the comment includes Confidential Business Information (CBI) or other information whose disclosure is restricted by statute. Information that you consider CBI or otherwise protected should be clearly identified as such and should not be submitted through www.regulations.gov or email. www.regulations.gov is an “anonymous access” system, and EPA will not know your identity or contact information unless you provide it in the body of your comment. If you send email directly to EPA, your email address will be automatically captured and included as part of the public comment. If EPA cannot read your comment due to technical difficulties and cannot contact you for clarification, EPA may not be able to consider your comment. Electronic files should avoid the use of special characters, any form of encryption, and be free of any defects or viruses.

Docket: Generally, documents in the docket for this action are available electronically at www.regulations.gov and in hard copy at EPA Region IX, 75 Hawthorne Street, San Francisco, California 94105-3901. While all documents in the docket are listed at www.regulations.gov, some information may be publicly available only at the hard copy location (e.g., copyrighted material, large maps), and some may not be publicly available in either location (e.g., CBI). To inspect the hard copy materials, please schedule an appointment during normal business hours with the contact listed in the FOR FURTHER INFORMATION CONTACT section.

FOR FURTHER INFORMATION CONTACT: Christine Vineyard, EPA Region IX, (415) 947-4125, vineyard.christine@epa.gov.

SUPPLEMENTARY INFORMATION: Throughout this document, “we,” “us,” and “our” refer to the EPA.

Table of Contents

I. The State's Submittal

A. What statutes and rules did the State submit?

B. Are there previous versions of the statutes and rules in the Arizona SIP?

C. What is the purpose of the submitted statutes and rules?

II. EPA's Evaluation and Action

A. How is EPA evaluating the submitted provisions?

B. Do the submitted provisions meet all applicable requirements?

C. Public Comment and Final Action

III. Statutory and Executive Order Reviews

I. The State's Submittal

A. What statutes and rules did the State submit?

On July 15, 1998, July 28, 2011, and October 29, 2012, the Arizona Department of Environmental Quality (ADEQ) submitted revisions to the Arizona State Implementation Plan (SIP). ADEQ supplemented the 1998 and 2011 submittals on May 16, 2014, and supplemented the 2012 submittal on September 6, 2013.

These revisions include certain statutes and rules regulating stationary sources under ADEQ's jurisdiction. Under section 110(k)(3) of the Clean Air Act (CAA or “Act”), EPA is obligated to approve, disapprove, or conditionally approve SIPs and SIP revisions. Table 1 lists the statutes and rules that we are approving in today's action with the corresponding effective dates and submittal dates.

Table 1—Submitted Arizona Statutes and Rules Approved in This Action
Arizona revised statutes (ARS) Section No. | Title | State effective date | Submitted
49-402 | State and county control | Amended through Laws 2002, Ch. 110, § 1 | 10/29/12
49-426 (excluding paragraphs D, E.1, F, I, J, and M)¹ | Permits; duties of director; exceptions; applications; objections; fees | Amended through Laws 1997, Ch. 178, § 5 | 07/28/11
Arizona Administrative Code (AAC) Rule No. | Title | Effective Date | Submitted
R18-2-101 [excluding definitions (2), (20), (32), (87), (109), and (122)] ² | Definitions | Various | 10/29/12
R18-2-102 | Incorporated Materials | 08/07/12 | 10/29/12
R18-2-201 | Particulate Matter: PM10 and PM2.5 | 08/07/12 | 10/29/12
R18-2-202 | Sulfur Oxides (Sulfur Dioxide) | 08/07/12 | 10/29/12
R18-2-203 | Ozone: One-hour Standard and Eight-hour Averaged Standard | 08/07/12 | 10/29/12
R18-2-204 | Carbon monoxide | 09/26/90 | 07/28/11
R18-2-205 | Nitrogen Oxides (Nitrogen Dioxide) | 08/07/12 | 10/29/12
R18-2-206 | Lead | 08/07/12 | 10/29/12
R18-2-210 | Attainment, Nonattainment, and Unclassifiable Area Designations | 08/07/12 | 10/29/12
R18-2-215 | Ambient air quality monitoring methods and procedures | 09/26/90 | 10/29/12
R18-2-216 | Interpretation of Ambient Air Quality Standards and Evaluation of Air Quality Data | 03/07/09 | 10/29/12
R9-3-218 (rescission) | Violations | 08/07/12 (repeal) | 07/28/11
R18-2-601 | General | 11/15/93 | 07/15/98
R18-2-604 | Open Areas, Dry Washes, or Riverbeds | 11/15/93 | 07/15/98
R18-2-605 | Roadways and Streets | 11/15/93 | 07/15/98
R18-2-606 | Material Handling | 11/15/93 | 07/15/98
R18-2-607 | Storage piles | 11/15/93 | 07/15/98
R18-2-608 | Mineral Tailings | 03/07/09 | 07/28/11
R18-2-614 | Evaluation of nonpoint source emissions | 08/07/12 | 07/15/98
R18-2-701 | Definitions | 08/07/12 | 10/29/12
R18-2-703 | Standards of Performance for Existing Fossil-fuel Fired Steam Generators and General Fuel-burning Equipment | 03/07/09 | 07/28/11
R18-2-704 | Standards of Performance for Incinerators | 08/04/07 | 07/28/11
R18-2-706 | Standards of Performance for Existing Nitric Acid Plants | 11/15/93 | 07/15/98
R18-2-707 | Standards of Performance for Existing Sulfuric Acid Plants | 11/15/93 | 07/15/98
R9-3-509 (rescission) | Standards of Performance for Existing Petroleum Refineries | Not yet repealed but no applicable sources | 07/15/98
R18-2-714 | Standards of Performance for Existing Sewage Treatment Plants | 11/15/93 | 07/15/98
R18-2-715(F), (G) and (H) | Standards of Performance for Existing Primary Copper Smelters: Site-Specific Requirements | 03/07/09 | 07/28/11
R9-3-518 (rescission) | Standards of Performance for Existing Kraft Pulp Mills | 08/04/07 (repeal) | 07/28/11
R18-2-719 | Standards of Performance for Existing Stationary Rotating Machinery | 03/07/09 | 07/28/11
R18-2-720 | Standards of Performance for Existing Lime Manufacturing Plants | 03/07/09 | 07/28/11
R18-2-723 | Standards of Performance for Existing Concrete Batch Plants | 11/15/93 | 07/15/98
R18-2-724 | Standards of Performance for Fossil-fuel Fired Industrial and Commercial Equipment | 03/07/09 | 07/28/11
R18-2-726 | Standards of Performance for Sandblasting Operations | 11/15/93 | 07/15/98
R18-2-728 | Standards of Performance for Existing Ammonium Sulfide Manufacturing Plants | 11/15/93 | 07/15/98
R18-2-729 | Standards of Performance for Cotton Gins | 08/04/07 | 07/28/11
R18-2-730 | Standards of Performance for Unclassified Sources | 03/07/09 | 07/28/11
R18-2-732 | Standards of Performance for Existing Hospital/Medical/Infectious Waste Incinerators | 08/04/07 | 07/28/11
Appendix 2 | Test Methods and Protocols | 10/03/05 | 07/28/11
Appendix 10 (rescission) | Evaluation of Air Quality Data | 03/07/09 (repeal) | 07/28/11
Appendix 11 (rescission) | Allowable Particulate Emissions Computations | 03/07/09 (repeal) | 07/28/11
Not applicable | Arizona Testing Manual for Air Pollutant Emissions, Revision F, March 1992, Section 1 | March 1992 | 07/28/11

B. Are there previous versions of the statutes and rules in the Arizona SIP?

¹ The EPA will be taking action on ARS section 49-426(F) in a separate rulemaking action that will relate to Arizona's amended New Source Review program. ADEQ does not intend the other paragraphs that are listed (i.e., D, E.1, I, J, and M) to be part of the Arizona SIP.

² The EPA will be taking action on the following six definitions in R18-2-101 in a separate rulemaking action that will relate to Arizona's amended New Source Review program: “actual emissions,” “begin actual construction,” “construction,” “net emissions increase,” “potential to emit,” and “regulated NSR pollutant.”

Most of the submitted statutes and rules will supersede or replace previously-approved versions in the Arizona SIP. See table 2 below for the statutes or rules that are superseded by approval of the statutes and rules covered in this action, and the dates on which the previous versions were approved by EPA. Table 2 also lists the existing SIP rules that are being deleted from the SIP without replacement along with the dates that they were approved by EPA. The following rules are new to the SIP: R18-2-102 (“Incorporated Materials”), R18-2-210 (“Attainment, Nonattainment, and Unclassifiable Area Designations”), and Appendix 2 (“Test Methods and Protocols”).

Table 2—SIP Statutes and Rules Superseded or Deleted From Arizona SIP in This Action
Arizona Revised Statutes (ARS) Section No. | Title | Existing SIP statute that is superseded by this action | Previous approval
49-402 | State and county control | 49-402 | 65 FR 36353 (June 8, 2000).
49-426 (excluding paragraphs D, E.1, F, I, J, and M) | Permits; duties of director; exceptions; applications; objections; fees | 36-1707.01 | 47 FR 26382 (June 18, 1982).

Arizona Administrative Code (AAC) Rule No. | Title | Existing SIP Rule that is superseded (entirely or in part) or deleted by this action | Previous approval
R18-2-101 [excluding definitions (2), (20), (32), (87), (109), and (122)]³ | Definitions | R9-3-101; R9-3-102; R18-2-101 | 43 FR 33245 (July 31, 1978); 47 FR 17483 (April 23, 1982); 47 FR 42572 (September 28, 1982); 48 FR 19878 (May 3, 1983); 69 FR 51952 (August 24, 2004).
R18-2-201 | Particulate Matter: PM10 and PM2.5 | R3-3-201 | 49 FR 41026 (October 19, 1984).
R18-2-202 | Sulfur Oxides (Sulfur Dioxide) | R3-3-202 | 49 FR 41026 (October 19, 1984).
R18-2-203 | Ozone: One-hour Standard and Eight-hour Averaged Standard | R3-3-204 | 49 FR 41026 (October 19, 1984).
R18-2-204 | Carbon monoxide | R9-3-205 | 49 FR 41026 (October 19, 1984).
R18-2-205 | Nitrogen Oxides (Nitrogen Dioxide) | R3-3-206 | 49 FR 41026 (October 19, 1984).
R18-2-206 | Lead | R3-3-207 | 49 FR 41026 (October 19, 1984).
R18-2-215 | Ambient air quality monitoring methods and procedures | R9-3-215 | 49 FR 41026 (October 19, 1984).
R18-2-216 | Interpretation of Ambient Air Quality Standards and Evaluation of Air Quality Data | R9-3-216 (paragraph A) | 47 FR 17483 (April 23, 1982).
R9-3-218 (rescission) | Violations | R9-3-218 (deleted from SIP) | 49 FR 41026 (October 19, 1984).
R18-2-601 | General | R9-3-401 | 47 FR 17483 (April 23, 1982).
R18-2-604 | Open Areas, Dry Washes, or Riverbeds | R9-3-404 | 49 FR 41026 (October 19, 1984).
R18-2-605 | Roadways and Streets | R9-3-405 | 47 FR 17483 (April 23, 1982).
R18-2-606 | Material Handling | R9-3-406 | 47 FR 17483 (April 23, 1982).
R18-2-607 | Storage piles | R9-3-407 | 47 FR 17483 (April 23, 1982).
R18-2-608 | Mineral Tailings | R9-3-408 | 47 FR 17483 (April 23, 1982).
R18-2-614 | Evaluation of nonpoint source emissions | R9-3-410 | 47 FR 17483 (April 23, 1982).
R18-2-701 | Definitions | R9-3-101; R18-2-101 | 47 FR 17483 (April 23, 1982); 47 FR 42572 (September 28, 1982); 48 FR 19878 (May 3, 1983); 49 FR 41026 (October 19, 1984); 69 FR 51952 (August 24, 2004).
R18-2-703 | Standards of Performance for Existing Fossil-fuel Fired Steam Generators and General Fuel-burning Equipment | R9-3-503 | 47 FR 17483 (April 23, 1982).
R18-2-704 | Standards of Performance for Incinerators | R9-3-504 | 47 FR 17483 (April 23, 1982).
R18-2-706 | Standards of Performance for Existing Nitric Acid Plants | R9-3-506 | 47 FR 17483 (April 23, 1982).
R18-2-707 | Standards of Performance for Existing Sulfuric Acid Plants | R9-3-507 | 47 FR 17483 (April 23, 1982).
R9-3-509 (rescission) | Standards of Performance for Existing Petroleum Refineries | R9-3-509 (deleted from SIP) | 47 FR 17483 (April 23, 1982).
R18-2-714 | Standards of Performance for Existing Sewage Treatment Plants | R9-3-514 | 47 FR 17483 (April 23, 1982).
R18-2-715(F), (G), (H) | Standards of Performance for Existing Primary Copper Smelters: Site-Specific Requirements | R18-2-715(F), (G), (H) | 69 FR 63321 (November 1, 2004).
R9-3-518 (rescission) | Standards of Performance for Existing Kraft Pulp Mills | R9-3-518 (deleted from SIP) | 47 FR 42572 (September 28, 1982); 47 FR 17483 (April 23, 1982).
R18-2-719 | Standards of Performance for Existing Stationary Rotating Machinery | R9-3-519 | 47 FR 17483 (April 23, 1982).
R18-2-720 | Standards of Performance for Existing Lime Manufacturing Plants | R9-3-520 | 47 FR 42572 (September 28, 1982); 47 FR 17483 (April 23, 1982).
R18-2-723 | Standards of Performance for Existing Concrete Batch Plants | R9-3-523 | 47 FR 17483 (April 23, 1982).
R18-2-724 | Standards of Performance for Fossil-fuel Fired Industrial and Commercial Equipment | R9-3-524 | 47 FR 17483 (April 23, 1982).
R18-2-726 | Standards of Performance for Sandblasting Operations | R9-3-526 | 47 FR 17483 (April 23, 1982).
R18-2-728 | Standards of Performance for Existing Ammonium Sulfide Manufacturing Plants | R9-3-528 | 47 FR 17483 (April 23, 1982).
R18-2-729 | Standards of Performance for Cotton Gins | R9-3-529 | 49 FR 41026 (October 19, 1984).
R18-2-730 | Standards of Performance for Unclassified Sources | R9-3-502 | 49 FR 41026 (October 19, 1984).
R18-2-732 | Standards of Performance for Existing Hospital/Medical/Infectious Waste Incinerators | R9-3-504 | 47 FR 17483 (April 23, 1982).
Appendix 10 (rescission) | Evaluation of Air Quality Data | Appendix 10 (deleted from SIP) | 47 FR 17483 (April 23, 1982).
Appendix 11 (rescission) | Allowable Particulate Emissions Computations | Appendix 11 (deleted from SIP) | 49 FR 41026 (October 19, 1984); corrected at 69 FR 2509 (January 16, 2004).
Not applicable | Arizona Testing Manual for Air Pollutant Emissions, Revision F, March 1992, Section 1 | Arizona Testing Manual for Air Pollutant Emissions, Section 1 | 47 FR 17483 (April 23, 1982).

C. What is the purpose of the submitted statutes and rules?

³ The EPA will be taking action on the following six definitions in R18-2-101 in a separate rulemaking action that will relate to Arizona's amended New Source Review program: “actual emissions,” “begin actual construction,” “construction,” “net emissions increase,” “potential to emit,” and “regulated NSR pollutant.”

ADEQ submitted the statutes and rules to update the Arizona SIP and to delete rules that have been repealed or are otherwise unnecessary to retain in the SIP because the sources to which the requirements had applied no longer exist. The requirements set forth in the submitted statutes and rules include the types of requirements that are needed to comply with CAA section 110(a). EPA's technical support document (TSD) has more information about these statutes and rules.

II. EPA's Evaluation and Action

A. How is EPA evaluating the submitted provisions?

Generally, SIP requirements must be enforceable (see section 110(a) of the Act) and must not modify the SIP inconsistent with sections 110(l) and 193.

B. Do the submitted provisions meet all applicable requirements?

The statutes and rule revisions approved herein generally renumber and otherwise update statutes and rules that we approved previously in the Arizona SIP. The updated statutes and rules approved herein do not relax any existing emissions limits or standards and meet all applicable requirements. Our approval of them is consistent with the relevant policy and guidance regarding enforceability and SIP relaxations. The TSD has more information on our evaluation.

C. Public Comment and Final Action

As authorized in section 110(k)(3) of the Act, the EPA is approving the submitted statutes and rule revisions listed in table 1 because we believe they meet all relevant CAA requirements. We do not think anyone will object to this approval, so we are finalizing it without proposing it in advance. However, in the Proposed Rules section of this Federal Register, we are simultaneously proposing approval of the same submitted revisions. If we receive adverse comments by October 23, 2014, we will publish a timely withdrawal in the Federal Register to notify the public that the direct final approval will not take effect and we will address the comments in a subsequent final action based on the proposal. If we do not receive timely adverse comments, the direct final approval will be effective without further notice on November 24, 2014. This will incorporate these statutes and rule revisions into the federally enforceable SIP.

III. Statutory and Executive Order Reviews

Under the Clean Air Act, the Administrator is required to approve a SIP submission that complies with the provisions of the Act and applicable Federal regulations. 42 U.S.C. 7410(k); 40 CFR 52.02(a). Thus, in reviewing SIP submissions, EPA's role is to approve State choices, provided that they meet the criteria of the Clean Air Act. Accordingly, this action merely approves State statutes and rule revisions as meeting Federal requirements and does not impose additional requirements beyond those imposed by State law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address disproportionate human health or environmental effects with practical, appropriate, and legally permissible methods under Executive Order 12898 (59 FR 7629, February 16, 1994).

In addition, this rule does not have tribal implications as specified by Executive Order 13175 (65 FR 67249, November 9, 2000), because the SIP is not approved to apply in Indian country located in the State, and EPA notes that it will not impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by November 24, 2014. Filing a petition for reconsideration by the Administrator of this final rule does not affect the finality of this action for the purposes of judicial review nor does it extend the time within which a petition for judicial review may be filed, and shall not postpone the effectiveness of such rule or action. Parties with objections to this direct final rule are encouraged to file a comment in response to the parallel notice of proposed rulemaking for this action published in the Proposed Rules section of today's Federal Register, rather than file an immediate petition for judicial review of this direct final rule, so that EPA can withdraw this direct final rule and address the comment in the proposed rulemaking. This action may not be challenged later in proceedings to enforce its requirements (see section 307(b)(2)).

List of Subjects in 40 CFR Part 52

Environmental protection, Air pollution control, Incorporation by reference, Intergovernmental relations, Particulate matter, Reporting and recordkeeping requirements.

Dated: May 30, 2014.
Jared Blumenfeld,
Regional Administrator, Region IX.

Editorial Note: This document was received for publication by the Office of Federal Register on September 17, 2014.

Part 52, Chapter I, title 40 of the Code of Federal Regulations is amended as follows:

PART 52—APPROVAL AND PROMULGATION OF IMPLEMENTATION PLANS

1. The authority citation for part 52 continues to read as follows:

Authority: 42 U.S.C. 7401 et seq.

Subpart D—Arizona

2. Section 52.120 is amended by:

a. Adding paragraphs (c)(27)(i)(C), (c)(43)(i)(C), (c)(45)(i)(D), (c)(50)(i)(C), (c)(54)(i)(G), and (c)(56)(i)(C);

b. Revising paragraph (c)(110) introductory text; and

c. Adding paragraphs (c)(110)(i)(A)(3), (c)(161), and (c)(162) to read as follows:

§ 52.120 Identification of plan.

* * * * *

(c) * * *

(27) * * *

(i) * * *

(C) Previously approved on April 23, 1982, in paragraph (c)(27)(i)(B) of this section and now deleted without replacement: R9-3-518 (Paragraphs B and C) and Appendix 10 (Sections A10.1.3.3, A10.1.4 and A10.2.2 to A10.3.4).

* * * * *

(43) * * *

(i) * * *

(C) Previously approved on April 23, 1982, in paragraph (c)(43)(i)(B) of this section and now deleted without replacement: R9-3-518 (Paragraph A.1 to A.5).

* * * * *

(45) * * *

(i) * * *

(D) Previously approved on April 23, 1982, in paragraph (c)(45)(i)(B) of this section and now deleted without replacement: R9-3-509 and Appendix 10 (Sections A10.2 and A10.2.1).

* * * * *

(50) * * *

(i) * * *

(C) Previously approved on April 23, 1982, in paragraph (c)(50)(i)(A) of this section and now deleted without replacement: Appendix 10 (Sections A10.1-A10.1.3.2).

* * * * *

(54) * * *

(i) * * *

(G) Previously approved on September 28, 1982, in paragraph (c)(54)(i)(C) of this section and now deleted without replacement: R9-3-518 (paragraphs A to A.1 and A.2).

* * * * *

(56) * * *

(i) * * *

(C) Previously approved on October 19, 1984, in paragraph (c)(56)(i)(A) of this section and now deleted without replacement: R9-3-218 and Appendix 11.

* * * * *

(110) New and amended regulations were submitted on July 15, 1998, and supplemented on May 16, 2014, by the Governor's designee.

(i) * * *

(A) * * *

(3) Arizona Administrative Code, title 18 (“Environmental Quality”), chapter 2 (“Department of Environmental Quality—Air Pollution Control”), supp. 12-2, June 30, 2012: R18-2-601 (“General”); R18-2-604 (“Open Areas, Dry Washes, or Riverbeds”); R18-2-605 (“Roadways and Streets”); R18-2-606 (“Material Handling”); R18-2-607 (“Storage Piles”); and R18-2-614 (“Evaluation of Nonpoint Source Emissions”); R18-2-706 (“Standards of Performance for Existing Nitric Acid Plants”); R18-2-707 (“Standards of Performance for Existing Sulfuric Acid Plants”); R18-2-714 (“Standards of Performance for Existing Sewage Treatment Plants”); R18-2-723 (“Standards of Performance for Existing Concrete Batch Plants”); R18-2-726 (“Standards of Performance for Sandblasting Operations”); and R18-2-728 (“Standards of Performance for Existing Ammonium Sulfide Manufacturing Plants”).

* * * * *

(161) The following plan revision was submitted on July 28, 2011, and supplemented on May 16, 2014, by the Governor's designee.

(i) Incorporation by reference.

(A) Arizona Department of Environmental Quality.

(1) West's Arizona Revised Statutes, 2012-2013 Compact Edition; title 49 (“Environment”), chapter 3 (“Air Quality”), article 2 (“State Air Pollution Control”) section 49-426 (“Permits; duties of director; exceptions; applications; objections; fees”), excluding paragraphs (D), (E)(1), (F), (I), (J), and (M).

(2) Arizona Administrative Code, title 18 (“Environmental Quality”), chapter 2 (“Department of Environmental Quality—Air Pollution Control”), supp. 09-1, March 31, 2009: R18-2-608 (“Mineral Tailings”); R18-2-703 (“Standards of Performance for Fossil-fuel Fired Steam Generators and General Fuel-burning Equipment”); R18-2-704 (“Standards of Performance for Incinerators”); R18-2-715 (“Standards of Performance for Existing Primary Copper Smelters; Site-Specific Requirements”), excluding paragraphs (A) through (E); R18-2-720 (“Standards of Performance for Existing Lime Manufacturing Plants”); R18-2-724 (“Standards of Performance for Fossil-fuel Fired Industrial and Commercial Equipment”); R18-2-729 (“Standards of Performance for Cotton Gins”); and R18-2-730 (“Standards of Performance for Unclassified Sources”).

(3) Arizona Administrative Code, title 18 (“Environmental Quality”), chapter 2 (“Department of Environmental Quality—Air Pollution Control”), supp. 09-2, June 30, 2009: R18-2-732 (“Standards of Performance for Existing Hospital/Medical/Infectious Waste Incinerators”).

(4) Arizona Administrative Code, title 18 (“Environmental Quality”), chapter 2 (“Department of Environmental Quality—Air Pollution Control”), supp. 12-2, June 30, 2012: R18-2-204 (“Carbon Monoxide”); R18-2-719 (“Standards of Performance for Existing Stationary Rotating Machinery”); and Appendix 2 (“Test Methods and Protocols”).

(5) Arizona Testing Manual for Air Pollutant Emissions, Revision F, March 1992, excluding sections 2 through 7.

(162) The following plan revision was submitted on October 29, 2012, and supplemented on September 6, 2013, by the Governor's designee.

(i) Incorporation by reference.

(A) Arizona Department of Environmental Quality

(1) West's Arizona Revised Statutes, 2012-2013 Compact Edition; title 49 (“Environment”), chapter 3 (“Air Quality”), section 49-402 (“State and county control”).

(2) Arizona Administrative Code, title 18 (“Environmental Quality”), chapter 2 (“Department of Environmental Quality—Air Pollution Control”), supp. 12-2, June 30, 2012: R18-2-101 (“Definitions”), excluding definitions (2), (20), (32), (87), (109), and (122); R18-2-102 (“Incorporated Materials”); R18-2-201 (“Particulate matter: PM10 and PM2.5”); R18-2-202 (“Sulfur Oxides (Sulfur Dioxide)”); R18-2-203 (“Ozone: One-hour Standard and Eight-hour Averaged Standard”) R18-2-205 (“Nitrogen Oxides (Nitrogen Dioxide)”); R18-2-206 (“Lead”); R18-2-210 (“Attainment, Nonattainment, and Unclassifiable Area Designations”); R18-2-215 (“Ambient air quality monitoring methods and procedures”); R18-2-216 (“Interpretation of Ambient Air Quality Standards and Evaluation of Air Quality Data”); and R18-2-701 (“Definitions”).

[FR Doc. 2014-22480 Filed 9-22-14; 8:45 am]

BILLING CODE 6560-50-P